DEPARTMENT OF COMMERCE

Census Bureau

Submission for OMB Review; Comment Request

The Department of Commerce will submit to the Office of Management and Budget (OMB) for clearance the following proposal for collection of information under the provisions of the Paperwork Reduction Act.

Agency: Census Bureau.

Title: National Survey of Children's Health.

OMB Control Number: 0607-0990.

Form Number(s):

English survey forms include:

NSCH-S1 (English Screener),

NSCH-T1 (English Topical for 0- to 5-year-old children),

NSCH-T2 (English Topical for 6- to 11-year-old children),

NSCH-T3 (English Topical for 12- to 17-year-old children).

Spanish survey forms include:

NSCH-S-S1 (Spanish Screener),

NSCH-S-T1 (Spanish Topical for 0- to 5-year-old children),

NSCH-S-T2 (Spanish Topical for 6- to 11-year-old children), and

NSCH-S-T3 (Spanish Topical for 12- to 17-year-old children)

NSCH-SC1 (Screener Card—perforated).

Type of Request: Regular submission.

Number of Respondents: 67,193 for the production screener, 26,321 for the production topical, 2,000 for the screener card, 680 for the screener card web screener, and 355 for the screener card web topical. Please note that the estimated number of respondents are slightly lower here than noted in the Presubmission Federal Register, published on November 13, 2018 (83 FR, No. 219; p. 56287-56290). The figures here are the correct figures and are a result of improved estimates of the response rates for the screener and topical modules using updated return rates from the 2018 NSCH cycle after survey closeout.

Average Hours per Response: 0.083 for the production screener and screener card web screener, 0.55 for the production topical and screener card web topical, and 0.033 for the screener card.

Burden Hours: 20,371. Please note that the estimated total annual burden hours are slightly lower here than noted in the Federal Register Pre-notice. The figure here is the correct figure and is a result of improved estimates of the response rates for the screener and topical modules using updated return rates from the 2018 NSCH cycle after survey closeout.

Needs and Uses: The National Survey of Children's Health (NSCH) enables the Maternal and Child Health Bureau (MCHB) of the Health Resources and Services Administration (HRSA) of the U.S. Department of Health and Human Services (HHS) to produce national and state-based estimates on the health and well-being of children, their families, and their communities as well as estimates of the prevalence and impact of children with special health care needs.

Data will be collected using one of two modes. The first mode is a web instrument (Centurion) survey that contains the screener and topical instruments. The web instrument first will take the respondent through the screener questions. If the household screens into the study, the respondent will be taken directly into one of the three age-based topical sets of questions. The second mode is a mailout/mailback of a self-administered paper-and-pencil interviewing (PAPI) screener instrument followed by a separate mailout/mailback of a PAPI age-based topical instrument. A test of a single-question PAPI screener card instrument to ease the burden for households without children is also being conducted concurrently with the production survey.

The National Survey of Children's Health (NSCH) is a large-scale (sample size is 184,000 addresses) national survey with approximately 180,000 addresses included in the production survey and 4,000 addresses included in the screener card test. The survey will consist of one additional experiment to test the effectiveness of an envelope design that is aimed at increasing the likelihood of response by increasing the chance that the initial mail package is opened. Higher response can reduce follow-up costs and nonresponse bias. As in prior cycles of the NSCH, there remain two key, non-experimental design elements. The first additional non-experimental design element is either a $2 or $5 screener cash incentive mailed to 90% (45% each) of sampled addresses; the remaining 10% (the control) will receive no incentive to monitor the effectiveness of the cash incentive. This incentive is designed to increase response and reduce nonresponse bias. The incentive amounts were chosen based on the results of the 2018 NSCH as well as funding availability. The second additional non-experimental design element is a data collection procedure based on the block group-level paper-only response probability used to identify households (30% of the sample) that would be more likely to respond by paper and send them a paper questionnaire from the initial mailing. The two experiments that will be further evaluated during the 2019 NSCH cycle are the screener card test as mentioned above along with a test of a more visually appealing, eye-catching envelope design that is aimed at increasing the likelihood that a mail package is opened, furthermore increasing the probability of response.

Affected Public: Parents, researchers, policymakers, and family advocates.

Frequency: The 2019 collection is the fourth administration of the NSCH. It is an annual survey, with a new sample drawn for each administration.

Respondent's Obligation: Voluntary.

Legal Authority: Census Authority: 13 U.S.C. Section 8(b).

HRSA MCHB Authority: Section 501(a)(2) of the Social Security Act (42 U.S.C. 701)

USDA Authority: The Healthy, Hunger-Free Kids Act of 2010, Public Law 111-296. In particular, 42 U.S.C. 1769d(a) authorizes USDA to conduct research on the causes and consequences of childhood hunger included in 1769d(a)(4)(B), the geographic dispersion of childhood hunger and food insecurity.

CDC/NCBDDD Authority: Public Health Service Act, Section 301, 42 U.S.C. 241.

Confidentiality: The Census Bureau is required by law to protect your information. The Census Bureau is not permitted to publicly release your responses in a way that could identify you or your household. Federal law protects your privacy and keeps your answers confidential (Title 13, United States Code, Section 9). Per the Federal Cybersecurity Enhancement Act of 2015, your data are protected from cybersecurity risks through screening of the systems that transmit your data.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-04303 Filed 3-8-19; 8:45 am]

BILLING CODE 3510-07-P